DEPARTMENT OF DEFENSE

Department of the Air Force

Notice is Given of the Names of Members of a Performance Review Board for the Department of the Air Force

AGENCY: Department of the Air Force.

ACTION: Notice.

SUMMARY: Notice is given of the names of members of a Performance Review Board for the Department of the Air Force. Effective Date is November 16, 2006.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Air Force are:

1. Board President—Gen Norton A. Schwartz, USTRANSCOM/CC.

2. Lt Gen Donald J. Hoffman, Military Deputy Assistant Secretary of the Air Force (Acquisition).

3. Lt Gen Stephen R. Lorenz, Commander, Air University.

4. Mr Roger M. Blanchard, Assistant Deputy Chief of Staff, Personnel, Headquarters, U.S. Air Force.

5. Mrs Barbara A. Westgate, Executive Director, Air Force Materiel Command.

6. Mr Robert E. Dawes, Auditor General of the Air Force, Secretary of the Air Force.

7. Mr Charlie E. Williams, Jr., Deputy Assistant Secretary (Contracting), Secretary of the Air Force.

8. Mr Kenneth Percell, Executive Director, Warner Robins Air Logistics Center.

9. Mr John Salvatori, Director, Intell Systems Support Office (ISSO).

10. RADM Donna L. Crisp, Director for Manpower and Personnel, J1 , The Joint Staff.

11. Mr John Argodale, Deputy Assistant Secretary of the Army (Financial Operations) OASA (Financial Management & Comptroller).

12. Ms Mary George, Deputy Director for Information Operations and Reports, Washington Headquarters Services.

13. Ms Ellen E. McCarthy, Director, Personnel Development and Readiness, Office of the Under Secretary of Defense for Intelligence, Department of Defense.

FOR FURTHER INFORMATION CONTACT: Please direct any written comments or requests for information to Mr. Greg Price, Senior Leader Management, AF/DPS, 1040 Air Force Pentagon, Washington, DC 20330-1040 (PH: 703-697-8332; gregory.price@pentagon.af.mil).

Bao-Anh Trinh,
Air Force Federal Register Liaison Officer.

[FR Doc. E6-17089 Filed 10-13-06; 8:45 am]

BILLING CODE 5001-05-P